DEPARTMENT OF THE INTERIOR

Minerals Management Service

Notice and Agenda for Meeting of the Royalty Policy Committee

AGENCY: Minerals Management Service (MMS), Interior.

ACTION: Notice of meeting.

SUMMARY: Agenda items for the second meeting of the newly chartered Royalty Policy Committee (RPC) will include remarks from the Director, MMS, and the Associate Director, Minerals Revenue Management (MRM), MMS, as well as updates from the following subcommittees: Geothermal; Coal; Federal Oil and Gas Valuation; Oil and Gas Royalty Reporting; and Indian Valuation.

The RPC will also hear special reports on the status of the Open and Non-Discriminatory Access proposed rule and an update on energy legislation from MMS. The Bureau of Land Management will update the RPC on exploration, development, and access activities occurring on public lands, and the Bureau of Indian Affairs will brief the RPC on the Indian Energy Resource Development Office.

The RPC membership includes representatives from states, Indian tribes and individual Indian mineral owner organizations, minerals industry associations, the general public, and other Federal departments.

DATES: Thursday, May 26, 2005, from 8:30 a.m. to 5 p.m., central time.

ADDRESSES: The meeting will be held at the Sheraton New Orleans Hotel, 500 Canal Street, New Orleans, Louisiana, telephone number 1-888-627-7033.

FOR FURTHER INFORMATION CONTACT: Gary Fields, Minerals Revenue Management, Minerals Management Service, PO Box 25165, MS 300B2, Denver, Colorado, 80225-0165, telephone number (303) 231-3102, fax number (303) 231-3780, e-mail gary.fields@mms.gov.

SUPPLEMENTARY INFORMATION: The RPC provides advice to the Secretary and top Department officials on minerals policy, operational issues, and the performance of discretionary functions under the laws governing the Department's management of Federal and Indian mineral leases and revenues. The RPC will review and comment on revenue management and other mineral-related policies and provide a forum to convey views representative of mineral lessees, operators, revenue payors, revenue recipients, governmental agencies, and the interested public.

The location and dates of future meetings will be published in the Federal Register and posted on our Internet site at http://www.mms.gov/mmab/RoyaltyPolicyCommittee/rpc_homepage.htm. Meetings will be open to the public without registration in advance on a space-available basis. The public may make statements during the meetings, to the extent time permits, and file written statements with the RPC for its consideration. Copies of these written statements should be submitted to Mr. Fields. Within 2 weeks following the conclusion of each meeting, the minutes will be posted on our Internet site, and will be available for public inspection and copying at our offices located in Building 85, Room A-614, Denver Federal Center, Denver, Colorado 80225.

These meetings are conducted under the authority of the Federal Advisory Committee Act (Pub. L. 92-463, 5 U.S.C., Appendix 1) and the Office of Management and Budget (Circular No. A-63, revised).

Dated: April 7, 2005.
Cathy J. Hamilton,
Acting Associate Director, Minerals Revenue Management.

[FR Doc. 05-7401 Filed 4-12-05; 8:45 am]

BILLING CODE 4310-MR-P